POSTAL SERVICE

Board of Governors; Sunshine Act Meeting

Date and Times: Tuesday, March 2, 2004; 10:30 a.m. and 2:30 p.m.

Place: Washington, DC, at U.S. Postal Service Headquarters, 475 L'Enfant Plaza, SW., in the Benjamin Franklin Room.

Status: March 2—10:30 a.m. (Closed); 2:30 p.m. (Open)

Matters to be Considered:

Tuesday, March 2—10:30 a.m. (Closed)

1. Financial Update.

2. Negotiated Service Agreement.

3. Strategic Planning.

4. Personnel Matters and Compensation Issues.

Tuesday, March 2—2:30 p.m. (Open)

1. Minutes of the Previous Meeting, February 2-3, 2004.

2. Remarks of the Postmaster General and CEO.

3. Committee Reports.

4. Capital Investment.

a. Labor Scheduler, Phase 1 Modification Request.

5. Flats Productivity.

6. Customer Connect Update.

7. Tentative Agenda for the April 15, 2004, meeting in Washington, DC.

FOR FURTHER INFORMATION CONTACT: William T. Johnstone, Secretary of the Board, U.S. Postal Service, 475 L'Enfant Plaza, SW., Washington, DC 20260-1000. Telephone (202) 268-4800.

William T. Johnstone,
Secretary.

[FR Doc. 04-3870 Filed 2-18-04; 3:06 pm]

BILLING CODE 7710-12-M